DEPARTMENT OF THE INTERIOR

Bureau of Land Management

[AZ-240-1784 (P)]

Notice of Correction for a Notice of Call for Nominations for the Sonoran Desert National Monument Advisory Committee

AGENCY: Bureau of Land Management, Interior.

ACTION: Notice of re-opening of call for nomination.

This notice was previously published in the Federal Register: Vol. 71, No. 26, Wednesday, February 8, 2006.

SUMMARY: Nominations have not been received for several positions on the Sonoran Desert National Monument Advisory Council. Positions for which nominations have not been received are: (1) Three persons, one from each tribe, who are selected from nominees submitted by the governing bodies of the following tribes: Tohono O'odham Nation, Gila River Indian Community, and Salt River Pima-Maricopa Indian Community, and who represent interests of the nominating tribe, (2) A person who represents Pinal County's interests, to be appointed from nominees submitted by the Supervisors of Pinal County, (3) A person who represents the State of Arizona, to be appointed from nominees submitted by the Governor of Arizona. Additional nominations may also be submitted for other positions on the Advisory Council. This Federal Register notice will extend the call for nominations for additional nominations for positions on the Advisory Council.

DATES: Submit nomination packets for positions to the address listed below by May 12, 2006.

ADDRESSES: Send completed nomination packets to: SDNM Advisory Council, c/o Karen Kelleher, Monument Manager, BLM, Phoenix District, 21605 North 7th Avenue, Phoenix, Arizona 85027; FAX 623-580-5580; e-mail: AZ_SDNMAC@blm.gov.

FOR FURTHER INFORMATION CONTACT: Karen Kelleher, Monument Manager, Phone 623-580-5500 or e-mail AZ_SDNMAC@blm.gov. Nomination packets are also available for download at the BLM Internet site: http://www.blm.gov/az/sonoran/council.htm.

Dated: April 14, 2006.
Karen Kelleher,
Sonoran Desert National Monument Manager, Phoenix District of the Bureau of Land Management.

[FR Doc. E6-5927 Filed 4-19-06; 8:45 am]

BILLING CODE 4310-32-P